DEPARTMENT OF TRANSPORTATION

Federal Aviation Administration

14 CFR Part 97

[Docket No. 30718; Amdt. No. 3368]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective April 27, 2010. The compliance date for each SIAP, associated Takeoff Minimums, and ODP is specified in the amendatory provisions.

The incorporation by reference of certain publications listed in the regulations is approved by the Director of the Federal Register as of April 27, 2010.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPs. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPs, an effective date at least 30 days after publication is provided.

Further, the SIAPs and Takeoff Minimums and ODPs contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on April 2, 2010.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 6 MAY 2010

Smithfield, NC, Johnston County, NDB OR GPS RWY 21, Amdt 6, CANCELLED

Montgomery, NY, Orange County, ILS OR LOC RWY 3, Amdt 3A

Montgomery, NY, Orange County, RNAV (GPS) RWY 26, Amdt 1A

Mount Pleasant, SC, Mt. Pleasant Rgnl-Faison Field, Takeoff Minimums and Obstacle DP, Amdt 1

Mount Pleasant, SC, Mt. Pleasant Rgnl-Faison Field, VOR/DME-A, Amdt 1

Mount Pleasant, SC, Mt. Pleasant Rgnl-Faison Field, VOR/DME RNAV OR GPS RWY 17, Orig, CANCELLED

Fayetteville, TN, Fayetteville Muni, RNAV (GPS) RWY 20, Amdt 1A

Paris, TN, Henry County, ILS OR LOC/NDB RWY 2, Amdt 1

Paris, TN, Henry County, NDB RWY 2, Amdt 3

Paris, TN, Henry County, RNAV (GPS) RWY 2, Orig

Paris, TN, Henry County, RNAV (GPS) RWY 20, Amdt 1

Effective 3 JUN 2010

Anniston, AL, Anniston Metropolitan, RNAV (GPS) RWY 5, Amdt 1

Anniston, AL, Anniston Metropolitan, RNAV (GPS) Y RWY 23, Amdt 1

Anniston, AL, Anniston Metropolitan, RNAV (GPS) Z RWY 23, Orig

Hamilton, AL, Marion County-Rankin Fite, VOR RWY 18, Amdt 5

Ash Flat, AR, Sharp County Rgnl, NDB RWY 4, Amdt 1D, CANCELLED

Batesville, AR, Batesville Rgnl, RNAV (GPS) RWY 7, Amdt 1

Fort Smith, AR, Fort Smith Rgnl, RNAV (GPS) RWY 1, Amdt 2

Fort Smith, AR, Fort Smith Rgnl, RNAV (GPS) RWY 7, Amdt 1

Fort Smith, AR, Fort Smith Rgnl, RNAV (GPS) RWY 25, Amdt 1

Ozark, AR, Ozark-Franklin County, RNAV (GPS) RWY 4, Orig

Ozark, AR, Ozark-Franklin County, Takeoff Minimums and Obstacle DP, Amdt 2

Napa, CA, Napa County, NAPAA ONE Graphic Obstacle DP

Napa, CA, Napa County, Takeoff Minimums and Obstacle DP, Amdt 4

San Diego, CA, Brown Field Muni, Takeoff Minimums and Obstacle DP, Amdt 4

Jacksonville, FL, Cecil Field, GPS RWY 9R, Orig, CANCELLED

Jacksonville, FL, Cecil Field, GPS RWY 18L, Orig-A, CANCELLED

Jacksonville, FL, Cecil Field, GPS RWY 27L, Orig, CANCELLED

Jacksonville, FL, Cecil Field, GPS RWY 36R, Orig, CANCELLED

Jacksonville, FL, Cecil Field, RNAV (GPS) RWY 18L, Orig

Jacksonville, FL, Cecil Field, RNAV (GPS) RWY 36R, Orig

Panama City, FL, Northwest Florida-Panama City Intl, ILS OR LOC/DME RWY 16, Orig-A

Panama City, FL, Northwest Florida-Panama City Intl, RNAV (GPS) RWY 16, Orig-A

Panama City, FL, Northwest Florida-Panama City Intl, RNAV (GPS) RWY 34, Orig-A

West Palm Beach, FL, Palm Beach Intl, RNAV (GPS) Y RWY 14, Amdt 2A

Ames, IA, Ames Muni, Takeoff Minimums and Obstacle DP, Amdt 4

Cedar Rapids, IA, The Eastern Iowa, RNAV (GPS) RWY 8, Orig

Cedar Rapids, IA, The Eastern Iowa, RNAV (GPS) RWY 26, Orig

Cedar Rapids, IA, The Eastern Iowa, Takeoff Minimums and Obstacle DP, Amdt 3

Cedar Rapids, IA, The Eastern Iowa, VOR/DME RWY 8, Orig

Cedar Rapids, IA, The Eastern Iowa, VOR RWY 26, Orig

Effingham, IL, Effingham County Memorial, Takeoff Minimums and Obstacle DP, Amdt 5

Shelbyville, IL, Shelby County, Takeoff Minimums and Obstacle DP, Orig

Crawfordsville, IN, Crawfordsville Muni, Takeoff Minimums and Obstacle DP, Orig

Chanute, KS, Chanute Martin Johnson, RNAV (GPS) RWY 36, Orig

Chanute, KS, Chanute Martin Johnson, Takeoff Minimums and Obstacle DP, Orig

Chanute, KS, Chanute Martin Johnson, VOR-A, Amdt 10

Chanute, KS, Chanute Martin Johnson, VOR/DME RNAV OR (GPS) RWY 36, Amdt 3C, CANCELLED

Coffeyville, KS, Coffeyville Muni, NDB RWY 35, Amdt 1

Baton Rouge, LA, Baton Rouge Metro, Ryan Field, RNAV (GPS) RWY 13, Amdt 1

Baton Rouge, LA, Baton Rouge Metro, Ryan Field, Takeoff Minimums and Obstacle DP, Amdt 1

Lake Charles, LA, Chennault Intl, RNAV (GPS) RWY 33, Amdt 1

Lake Charles, LA, Chennault Intl, Takeoff Minimums and Obstacle DP, Orig

Cassville, MO, Cassville Muni, RNAV (GPS) RWY 9, Orig

Cassville, MO, Cassville Muni, Takeoff Minimums and Obstacle DP, Orig

Cassville, MO, Cassville Muni, VOR RWY 9, Amdt 2

Kennett, MO, Kennett Memorial, NDB RWY 2, Orig, CANCELLED

Kennett, MO, Kennett Memorial, NDB RWY 20, Orig, CANCELLED

Lebanon, MO, Floyd W Jones Lebanon, Takeoff Minimums and Obstacle DP, Orig

Madison, MS, Bruce Campbell Field, VOR-A, Amdt 10

Madison, MS, Bruce Campbell Field, VOR/DME-B, Amdt 5

Endicott, NY, Tri-Cities, GPS RWY 21, Orig-A, CANCELLED

Endicott, NY, Tri-Cities, RNAV (GPS) RWY 3, Orig

Endicott, NY, Tri-Cities, RNAV (GPS) RWY 21, Orig

Endicott, NY, Tri-Cities, VOR-A, Amdt 5

Rochester, NY, Greater Rochester Intl, ILS OR LOC RWY 22, Amdt 7

Rochester, NY, Greater Rochester Intl, RNAV (GPS) RWY 22, Amdt 1

Buffalo, OK, Buffalo Muni, NDB-A, Amdt 3

North Bend, OR, Southwest Oregon Rgnl, Takeoff Minimums and Obstacle DP, Amdt 5

Dubois, PA, Dubois Rgnl, ILS OR LOC RWY 25, Amdt 9

Dubois, PA, Dubois Rgnl, RNAV (GPS) RWY 7, Amdt 1

Dubois, PA, Dubois Rgnl, RNAV (GPS) RWY 25, Amdt 1

Dubois, PA, Dubois Rgnl, Takeoff Minimums and Obstacle DP, Amdt 2

Dubois, PA, Dubois Rgnl, VOR/DME RWY 7, Amdt 4

Williamsport, PA, Williamsport Rgnl, ILS OR LOC RWY 27, Amdt 16A

Chamberlain, SD, Chamberlain Muni, Takeoff Minimums and Obstacle DP, Orig

Canadian, TX, Hemphill County, RNAV (GPS) RWY 22, Amdt 1

Graford, TX, Possum Kingdom, Takeoff Minimums and Obstacle DP, Orig-A

Higgins, TX, Higgins-Lipscomb County, Takeoff Minimums and Obstacle DP, Orig

Higgins, TX, Higgins-Lipscomb County, VOR/DME-A, Amdt 1

Perryton, TX, Perryton Ochiltree County, NDB-A, Amdt 4

Perryton, TX, Perryton Ochiltree County, RNAV (GPS) RWY 35, Orig

Perryton, TX, Perryton Ochiltree County, Takeoff Minimums and Obstacle DP, Orig

Rockport, TX, Aransas County, RNAV (GPS) RWY 14, Amdt 3

Rockport, TX, Aransas County, RNAV (GPS) RWY 18, Orig

Rockport, TX, Aransas County, RNAV (GPS) RWY 32, Orig

Rockport, TX, Aransas County, RNAV (GPS) RWY 36, Orig

Hot Springs, VA, Ingalls Field, GPS RWY 25, Orig-A, CANCELLED

Hot Springs, VA, Ingalls Field, RNAV (GPS) RWY 25, Orig

West Point, VA, Middle Peninsula Rgnl, RNAV (GPS) RWY 10, Amdt 1

Wenatchee, WA, Pangborn Memorial, RNAV (RNP) RWY 30, Orig

Fairmont, WV, Fairmont Muni Frankman Field, Takeoff Minimums and Obstacle DP, Amdt 6

[FR Doc. 2010-8836 Filed 4-26-10; 8:45 am]

BILLING CODE 4910-13-P